DEPARTMENT OF TRANSPORTATION

Surface Transportation Board

[STB Finance Docket No. 34702]

BNSF Railway Company—Temporary Trackage Rights Exemption—Norfolk Southern Railway Company

Norfolk Southern Railway Company (NSR) has agreed to grant temporary overhead trackage rights to BNSF Railway Company (BNSF) between C.A. Junction, MO (milepost S241.9) and Maxwell, MO (milepost S250.6), a distance of approximately 8.7 miles, connecting with BNSF's existing trackage rights over NSR between W.B. Junction, MO and C.A. Junction.

The transaction is scheduled to be consummated on May 30, 2005, and the temporary trackage rights will expire on or about June 1, 2005. The purpose of the temporary trackage rights is to bridge BNSF's trains while BNSF's main lines are out of service due to programmed track, roadbed and structural maintenance.

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employees affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34702, must be filed with the Surface Transportation Board, 1925 K Street, N.W., Washington, DC 20423-0001. In addition, a copy of each pleading must be served on Sarah W. Bailiff, 2500 Lou Menk Drive, P.O. Box 961039, Fort Worth, TX 76161-0039.

Board decisions and notices are available on our Web site at “http://www.stb.dot.gov.”

Decided: May 24, 2005.
By the Board, Joseph H. Dettmar, Acting Director, Office of Proceedings.
Vernon A. Williams,
Secretary.

[FR Doc. 05-10649 Filed 5-26-05; 8:45 am]

BILLING CODE 4915-01-P